DEPARTMENT OF COMMERCE

National Oceanic and Atmospheric Administration

[RTID 0648-XC702]

North Pacific Fishery Management Council; Public Meeting

AGENCY: National Marine Fisheries Service (NMFS), National Oceanic and Atmospheric Administration (NOAA), Commerce.

ACTION: Notice of hybrid conference meetings.

SUMMARY: The North Pacific Fishery Management Council (Council) and its advisory committees will meet February 6, 2023 through February 13, 2023.

DATES: The Council's Scientific and Statistical Committee (SSC) will begin at 8 a.m. in the Courtyard Ballroom on Monday, February 6, 2023, and continue through Tuesday, February 7, 2023, at 1 p.m. The Council's SSC workshop will begin at 1 p.m. in the Courtyard Ballroom on Tuesday, February 7, 2023, at continue through Wednesday, February 8, 2023. The Council's Advisory Panel (AP) will begin at 8 a.m. in the North/West room on Tuesday, February 7, 2023, and continue through Friday, February 10, 2023. The Council will begin at 8 a.m. in the Courtyard Ballroom on Thursday, February 9, 2023, and continue through Monday, February 13, 2023. All times listed are Pacific Time.

ADDRESSES: The meetings will be a hybrid conference. The in-person component of the meeting will be held at the Renaissance Hotel, 515 Madison St. Seattle, WA 98104, or join the meeting online through the links at https://www.npfmc.org/upcoming-council-meetings.

Council address: North Pacific Fishery Management Council, 1007 W 3rd Ave, Anchorage, AK 99501-2252; telephone: (907) 271-2809. Instructions for attending the meeting via webconference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, February 6, 2023, through Tuesday, February 7, 2023

The SSC agenda will include the following issues:

(1) NSRKC (Norton Sound Red King Crab) ABC (acceptable biological catch)/OFL (overfishing limit)—Set Specifications, Crab Plan Team Report;

(2) EFH (essential fish habitat) 5-year review summary report—Review EFH for Arctic FMP (fishery management plan) species;

(3) Groundfish stock prioritization proposal—Review AFSC (Alaska Fishery Science Center) prioritization proposal;

(4) Climate Change Taskforce Climate Resiliency Synthesis—Review;

(5) GOA (Gulf of Alaska) Groundfish bottom Trawl Survey Changes—Review.

The agenda is subject to change, and the latest version will be posted at https://meetings.npfmc.org/Meeting/Details/2976 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, February 7, 2023, through Wednesday, February 8, 2023

The SSC workshop agenda will focus on rapid ecosystem changes in the northern Bering Sea and southern Chukchi Sea. The workshop will consider how species that are currently managed under the Bering Sea Fishery Management Plans will respond to environmental changes and the potential socioeconomic and cultural impacts of those fishermen, communities and Tribes who rely on these marine resources. The last component of the workshop will focus on bridging the gaps between science and management and will include an exploration of proactive approaches for achieving management goals in a changing environment. The agenda is subject to change, and the latest version will be posted at https://meetings.npfmc.org/Meeting/Details/2967 prior to the meeting, along with meeting materials.

Tuesday, February 7, 2023, through Friday, February 10, 2023

The Advisory Panel agenda will include the following issues:

(1) Area 4 vessel use cap interim measures—Initial Review/Final Action;

(2) Snow Crab Rebuilding analysis—Final Action;

(3) NSRKC ABC/OFL—Set specifications, Crab Plan Team Report;

(4) AIGKC (Aleutian Island Golden King Crab) facility use caps discussion paper;

(5) EFH 5-year review summary report—Review, Ecosystem Committee Report, NOAA Coral/Sponge research program update;

(6) BSAI (Bering Sea Aleutian Islands) Pot CP (catcher processor) Monitoring Adjustments—Initial Review/Final Action;

(7) PSEIS (programmatic supplemental environmental impact statement) discussion paper—Review, Ecosystem Committee Report;

(8) Groundfish stock prioritization proposal—Review, Joint Groundfish Plan Team report;

(9) Trawl EM (electronic monitoring) Committee Report—Review;

(10) Universal data collection discussion paper on crew, lease cost collection—Review;

(11) Staff Tasking.

Thursday, February 9, 2023, through Monday, February 13, 2023

The Council agenda will include the following issues. The Council may take appropriate action on any of the issues identified.

(1) B Reports (Executive Director, NMFS Management, NOAA GC, AFSC, ADF&G, USCG, USFWS, IPHC report (T), Advisory Panel, SSC report);

(2) Snow Crab Rebuilding analysis—Final Action;

(3) NSRKC ABC/OFL—Set specifications, Crab Plan Team Report;

(4) AIGKC (Aleutian Island Golden King Crab) facility use caps discussion paper;

(5) Area 4 vessel use cap interim measures—Initial Review/Final Action;

(6) EFH 5-year review summary report—Review, Ecosystem Committee Report, NOAA Coral/Sponge research program update;

(7) BSAI Pot CP Monitoring Adjustments—Initial Review/Final Action;

(8) PSEIS discussion paper—Review, Ecosystem Committee Report;

(9) Groundfish stock prioritization proposal—Review, Joint Groundfish Plan Team report;

(10) Trawl EM Committee Report—Review;

(11) Universal data collection discussion paper on crew, lease cost collection—Review;

(12) Staff Tasking, including consideration of whether to rescind the Halibut Catch Share Plan revised allocations motion from February 2022.

Connection Information

You can attend the meeting online using a computer, tablet, or smart phone; or by phone only. Connection information will be posted online at: https://www.npfmc.org/upcoming-council-meetings. For technical support please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from January 13, 2023, to February 3, 2023, and closes at 12 p.m. Alaska Time on Friday February 3, 2023.

Authority: 16 U.S.C. 1801 et seq.

Dated: January 18, 2023.
Rey Israel Marquez,
Acting Deputy Director, Office of Sustainable Fisheries, National Marine Fisheries Service.

[FR Doc. 2023-01184 Filed 1-20-23; 8:45 am]

BILLING CODE 3510-22-P